DEPARTMENT OF STATE

[Public Notice 3552]

Nondiscrimination on the Basis of Sex in Education Programs or Activities Receiving Federal Financial Assistance

AGENCY: Department of State.

ACTION: Notice of Department of State Financial Assistance Subject to Title IX of the Education Amendments of 1972, as amended.

SUMMARY: In accordance with Subpart F of the final common rule for the enforcement of Title IX of the Education Amendments of 1972, as amended (“Title IX”), this notice lists federal financial assistance administered by the U.S. Department of State that is covered by Title IX. Title IX prohibits recipients of federal financial assistance from discriminating on the basis of sex in education programs or activities. Subpart F of the Title IX common rule requires each federal agency that awards federal financial assistance to publish in the Federal Register a notice of the federal financial assistance covered by the Title IX regulations within sixty (60) days after the effective date of the final common rule. The final common rule for the enforcement of Title IX was published in the Federal Register by twenty-one (21) federal agencies, including the Department of State, on August 30, 2000 (65 FR 52858-52895). The Department of State's portion of the final common rule will be codified at 22 CFR Part 146.

SUPPLEMENTARY INFORMATION: Title IX and the Title IX common rule prohibit recipients of federal financial assistance from discriminating on the basis of sex in educational programs or activities. Specifically, the statute states that “No person in the United States shall, on the basis of sex, be excluded from participation, be denied the benefits of, or be subjected to discrimination under any educational program or activity receiving Federal financial assistance,” with specific exceptions for various entities, programs, and activities. 20 U.S.C. 1681(a). Title IX and the Title IX common rule apply to the educational programs or activities of any entity receiving financial assistance from the Department of State, including, but not limited to, law enforcement agencies, museums, job training institutes, and for profit and nonprofit organizations.

List of Federal Financial Assistance Administered by the Department of State to Which Title IX Applies

Note: All recipients of federal financial assistance from the Department of State are subject to Title IX, but Title IX's anti-discrimination prohibitions are limited to the educational components of the recipient's program or activity, if any.

Failure to list a type of federal assistance below shall not mean, if Title IX is otherwise applicable, that a program or activity is not covered by Title IX.

The following types of federal financial assistance are derived from Appendix A of the Department's Title VI regulations, 22 CFR Chapter I, Parts 141.

1. Assistance provided by the Bureau of Human Resources (HR) for specialized domestic services to State and local government, educational institutions, and other public or private nonprofit organizations designated by the Secretary of State (Section 503 of the Foreign Service Act of 1980, 22 U.S.C. 3983).

2. Assistance provided by the Bureau of Educational and Cultural Affairs (ECA) for educational and cultural exchanges, including studies, research, instructions and other educational programs and activities (Mutual Educational and Cultural Exchange Act of 1961, as amended, 22 U.S.C. 2451, et seq.).

3. Assistance provided by the Bureau of Intelligence and Research (INR) to support graduate training, advanced research, public dissemination of research data, methods and findings, contact and collaboration among Governments and private specialists, and the conduct of on site advanced training and research by American specialists to other countries (Soviet-Eastern European Research and Training Act of 1983, as amended, 22 U.S.C. 4501, et seq.).

4. Donation of equipment, furniture, and training materials to public and private institutions (41 CFR 101-6.2).

5. Assistance provided through long-term training programs administered by the Bureau of Human Resources (HR) (Section 703 of the Foreign Service Act of 1980, 22 U.S.C. 4022).

Additional information on the Department of State's federal financial assistance can be found by consulting the Catalog of Federal Domestic Assistance (CFDA) at http://www.cfda.gov. If using the Internet site, please select “Search the Catalog,” select “Browse the Catalog—By Agency,” and then click on “The Department of State.” Catalog information is also available by calling, toll free, 1-800-699-8331 or by writing to: Federal Domestic Assistance Catalog Staff (MVS), General Services Administration, Reports Building, Room 101, 300—7th Street, NW, Washington, DC 20407.

Authority: 28 U.S.C. 1681-1688; 65 FR 52874, to be codified at 22 CFR 146.600

Dated: January 12, 2001.
David G. Carpenter,
Acting Under Secretary of State for Management, Department of State.

[FR Doc. 01-1833 Filed 1-22-01; 8:45 am]

BILLING CODE 4710-35-P